DEPARTMENT OF STATE

[Public Notice 7864]

Determination and Waiver of Section 7070(a) of the Department of State, Foreign Operations, and Related Programs Appropriations Act, 2012 (Division I, Public Law 112-74 (“the Act”) Relating to Assistance for the Independent States of the Former Soviet Union

Pursuant to the authority vested in me as Deputy Secretary of State, including by Section 7070(a) of the Department of State, Foreign Operations, and Related Programs Appropriations Act, 2012 (Division I, Pub. L. 112-74), (“the Act”), Executive Order 12163, as amended by Executive Order 13118, and State Department Delegation of Authority No. 245-1, I hereby determine that it is in the national security interest of the United States to make available funds appropriated under the heading “Assistance for Europe, Eurasia and Central Asia” of the Act, without regard to the restriction in section 7070(a).

This Determination shall be reported to the Congress and published in the Federal Register.

Dated: April 13, 2012.
William J. Burns,
Deputy Secretary of State.

[FR Doc. 2012-10511 Filed 4-30-12; 8:45 am]

BILLING CODE 4710-23-P